SECURITIES AND EXCHANGE COMMISSION

[Release No. 34-50866; File No. SR-Amex-2003-90]

Self-Regulatory Organizations; Notice of Filing of Proposed Rule Change by American Stock Exchange LLC Relating to the Amendment of Exchange Rule 153 and Amendment No. 1 Thereto

Correction

In notice document 04-27969 beginning on page 76798 in the issue of Wednesday, December 22, 2004, make the following correction:

On page 76801, in the second column, in the first paragraph, in the last line, “January 12, 2005” should read “January 6, 2005.”

[FR Doc. C4-27969 Filed 1-14-05; 8:45 am]

BILLING CODE 1505-01-D

DEPARTMENT OF TRANSPORTATION

Federal Aviation Administration

14 CFR Part 13

[Docket No. 27854; Amendment No. 13-32]

RIN 2120-AE84

Civil Penalty Assessment Procedures; Correction

Correction

In rule document 05-528 beginning on page 1812 in the issue of Tuesday, January 11, 2005 make the following corrections:

§ 13.16 [Corrected]

1. On page 1813, in the first column, in §13.16(a), in the 2nd line from the bottom, “40 U.S.C. 46301(d)(2)” should read, “49 U.S.C. 46301(d)(2)”.

2. On the same page, in the third column, after §13.16(d)(4), in the next line, paragraph “(3)” should read “(e)”.

[FR Doc. C5-528 Filed 1-14-05; 8:45 am]

BILLING CODE 1505-01-D